DEPARTMENT OF HEALTH AND HUMAN SERVICES

Food and Drug Administration

[Docket No. FDA-2010-N-0004]

[FDA 225-09-0014]

Memorandum of Understanding by and Between the United States Food and Drug Administration and the International Anesthesia Research Society for the Safety of Key Inhaled and Intravenous Drugs in Pediatrics Public-Private Partnership

AGENCY: Food and Drug Administration, HHS.

ACTION: Notice.

SUMMARY: The Food and Drug Administration (FDA) is providing notice of a memorandum of understanding (MOU) between FDA and the International Anesthesia Research Society (IARS). The purpose of this MOU is to establish a framework for collaboration between FDA and IARS and to support their shared interest of promoting the safe use of anesthetics and sedatives in children.

DATES: The agreement became effective March 21, 2010.

FOR FURTHER INFORMATION CONTACT: Wendy R. Sanhai, Senior Scientific Advisor, Office of the Commissioner, Food and Drug Administration, 10903 New Hampshire Ave., Bldg. 32, rm. 4128, Silver Spring, MD 20993, 301-796-8518.

SUPPLEMENTARY INFORMATION: In accordance with 21 CFR 20.108(c), which states that all written agreements and MOUs between FDA and others shall be published in the Federal Register, the agency is publishing notice of this MOU.

Dated: May 26, 2010.
Leslie Kux,
Acting Assistant Commissioner for Policy.

BILLING CODE 4160-01-S

[FR Doc. 2010-13292 Filed 6-2-10; 8:45 am]

BILLING CODE 4160-01-C